DEPARTMENT OF JUSTICE

Antitrust Division

Notice Pursuant to the National Cooperative Research and Production Act of 1993—Spray Drift Task Force

Notice is hereby given that, on May 11, 2000, pursuant to section 6(a) of the National Cooperative Research and Production Act of 1993, 15 U.S.C. 4301 et seq. (“the Act”), Spray Drift Task Force has filed written notifications simultaneously with the Attorney General and the Federal Trade Commission updating its membership status. The notifications were filed for the purpose of extending the Act's provisions limiting the recovery of antitrust plaintiffs to actual damages under specified circumstances.

As of May 5, 2000, the Spray Drift Task Force's membership consists of the following 39 companies: AH Marks and Company Limited, Yorkshire, UNITED KINGDOM; Agro Distribution, Sioux City, IA; Agro-Gor Company, Kansas City, MO; Albaugh, Inc., Ankeny, IA; American Cyanamid Company, Princeton, NJ; Amvac Chemical Corporation, Los Angeles, CA; Aventis CropScience, Research Triangle Park, NC; BASF Corporation, Research Triangle Park, NC; Bayer Corporation, Kansas City, MO; Cheminova, Inc., Wayne, NJ; Dow AgroSciences, Indianapolis, IN; Drexel Chemical Company, Memphis, TN; E. I. duPont de Nemours and Company, Wilmington, DE; Elf Atochem North America, Philadelphia, PA; FMC Corporation, Philadelphia, PA; Gharda USA, Inc., Brookfield, CT; Griffin, L.L.C., Hot Springs Village, AR; Helena Chemical Company, Princeton, CA; Industria Prodotti Chmimici SpA (I.Pi.Ci.), Milanese, ITALY, ISK Biosciences Corporation, Mentor, OH; Luxemborg Industries (PAMOL), Ltd., Memphis, TN; Makhteshim-Agan of North America, Inc., New York, NY; McLaughlin Gormley King Company, Minneapolis, MN: Merck & Co., Rahway, NJ; Micro-Flo Company, Memphis, TN; Monsanto, St. Louis, MO; NihonNohyaku America Inc., Hockessin, DE; Novartis Crop Protection, Inc., Greensboro, NC; Nufarm Platte Pty. Ltd., Greeley, CO; Rohm and Haas Company, Philadelphia, PA; Sipcam Agro USA, Inc., Roswell, GA; Tomen Agro, Inc., San Francisco, CA; Tri Corporation, Houston, TX; UCB Chemical Corporation, Smyrna, GA; Uniroyal Chemical Co. Inc., Middlebury, CT; United Phosphorus, Inc., Exton, PA; Valent U.S.A. Corporation, Walnut Creek, CA; Wilbur-Ellis Company, Fresno, CA; and Zeneca Ag Products Inc., Wilmington, DE.

No other changes have been made in either the membership or planned activity of the group research project. Membership in this group research project remains open, and Spray Drift Task Force intends to file additional written notification disclosing all changes in membership.

On May 15, 1990, Spray Drift Task Force filed its original notification pursuant to section 6(a) of the Act. The Department of Justice published a notice in the Federal Register pursuant to section 6(b) of the Act on July 5, 1990 (55 FR 27701).

The last notification was filed with the Department on November 16, 1995. A notice was published in the Federal Register pursuant to section 6(b) of the Act on April 8, 1996 (61 FR 15522).

Constance K. Robinson,
Director of Operations, Antitrust Division.

[FR Doc. 01-5716 Filed 3-7-01; 8:45 am]

BILLING CODE 4410-11-M